DEPARTMENT OF HEALTH AND HUMAN SERVICES

Administration for Children and Families

Submission for OMB Review; Comment Request

Title: Grants Application Data Summary, Administration for Native Americans (ANA) Social and Economic Development Strategies (SEDS) Application Information.

OMB No.: New Collection.

Description: Grants Application Data Summary (GASD) information is collected as part of a grant application. The GADS provides information used to prepare the legislatively mandated annual report to Congress on the status of American Indians, Native Alaskans, Native Hawaiians and Pacific Islander communities.

The purpose of this information collection is to collect information from applicants that ANA can use for more accurate reporting to the Administration for Children and Families and to Congress on the status of American Indians, Native Alaskans, Native Hawaiians and Pacific Islander communities.

Respondents: Tribal governments, native non-profits, tribal colleges & universities.

Annual Burden Estimates:

Instrument | Number of respondents | Number of responses per respondent | Average burden hours per response | Total burden hours
Grants Application Data Summary | 650 | 1 | 28 | 18,200

Estimated Total Annual Burden Hours:

Additional Information: Copies of the proposed collection may be obtained by writing to the Administration for children and Families, Office of Administration, Office of Information Services, 370 L'Enfant Promenade, SW., Washington, DC 20447, Attn: ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget,

Paperwork Reduction Project,

Attn: Desk Officer for ACF,

E-mail address: lauren_wittenberg@omb.eop.gov.

Dated: January 5, 2004.
Robert Sargis,
Reports Clearance Officer.

[FR Doc. 04-381 Filed 1-7-04; 8:45 am]

BILLING CODE 4184-01-M